DEPARTMENT OF DEFENSE

Office of the Secretary

[Docket ID: DoD-2023-HA-0113; Req No. OS-2024-00039-FR]

Proposed Collection; Comment Request

AGENCY: The Office of the Assistant Secretary of Defense for Health Affairs (OASD(HA)), Department of Defense (DoD).

ACTION: 60-Day information collection notice.

SUMMARY: In compliance with the Paperwork Reduction Act of 1995, Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 08D09, Alexandria, VA 22350-1700.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Amanda Grifka, 703-681-1771.

SUPPLEMENTARY INFORMATION:

Title; Associated Form; and OMB Number: TRICARE Select Survey of Beneficiaries (TSS-B); OMB Control Number: 0720-TSSB.

Needs and Uses: The TSS-B is a population-based survey, not a healthcare encounter-based survey; this makes it unique as the only survey of the entire TSS-B beneficiary population regardless of whether they have had a recent health care encounter. TSS-B is the sole source for Consumer Assessment of Healthcare Providers and Systems (CAHPS) which captures patient experience of the TSS-B population. This information collection, which began in 2009, is used in reports to Congress and by working groups within the DHA. The TSS-B data is required by DHA for Contract Data Requirements List (CDRL) Q120. TRICARE contractors use TSS-B data under CDRL Q120 for federal contracts to evaluate and identify issues related to patient experience and access to care for TSS-B. This includes developing executive reports and action plans on CAHPS Health Plan measures, which are delivered to DHA's Managed Care Support Program. This data is also used for regular Government Accountability Office (GAO) audits of care for TSS-B.

Affected Public: Individuals or households.

Annual Burden Hours: 1,250.

Number of Respondents: 5,000.

Responses Per Respondent: 1.

Annual Responses: 5,000.

Average Burden Per Response: 15 minutes.

Frequency: On occasion.

Dated: November 7, 2023.
Aaron T. Siegel,
Alternate OSD Federal Register Liaison Officer, Department of Defense.

[FR Doc. 2023-25121 Filed 11-14-23; 8:45 am]

BILLING CODE 6001-FR-P